DEPARTMENT OF HOMELAND SECURITY

Transportation Security Administration

[Docket No. TSA-2018-0001]

Surface Transportation Security Advisory Committee (STSAC) Meeting

AGENCY: Transportation Security Administration, DHS.

ACTION: Committee management; notice of federal advisory committee public meeting.

SUMMARY: The Transportation Security Administration (TSA) will hold a meeting of the Surface Transportation Security Advisory Committee (STSAC) to discuss issues listed in the Meeting Agenda section below. This meeting will be open to the public as stated in the Supplemental section below. In light of the current COVID-19 public health crisis, the meeting will be virtual.

DATES: The meeting will take place virtually on Thursday, November 5, 2020. The meeting will begin at 1:00 p.m. and will adjourn at 4:00 p.m. Eastern Standard Time. As listed in the Public Participation section below, requests to attend the meeting must be received by October 26, 2020. Requests to address the Committee must be received by October 26, 2020.

Requests for accommodation because of a disability must be received by October 26, 2020.

ADDRESSES: The meeting will be held virtually by teleconference. See Public Participation below for information on how to register to attend the meeting. Attendance information will be provided upon registration.

FOR FURTHER INFORMATION CONTACT: Judith Harroun-Lord, Surface Transportation Security Advisory Committee, Designated Federal Officer, Transportation Security Administration (TSA-28), 601 South 12th Street, Arlington, VA 20598-6028, STSAC@tsa.dhs.gov, 571-227-2283.

SUPPLEMENTARY INFORMATION:

I. Background

Notice of this meeting is given in accordance with the provisions of sec. 1969, Division K, TSA Modernization Act, of the FAA Modernization Act of 2018 (Pub. L. 115-254, 132 Stat. 3186, Oct. 5, 2018). The STSAC will advise, consult with, report to, and make recommendations to the Administrator on surface transportation security matters, including the development, refinement, and implementation of policies, programs, initiatives, rulemakings, and security directives pertaining to surface transportation security. The STSAC will also consider risk-based security approaches in the performance of its duties. Provisions of sec. 1969 stipulate that this Committee is exempt from the Federal Advisory Committee Act (5 U.S.C. App.). Copies of STSAC meeting minutes, participant rosters, and general information about the committee are available on TSA.gov. The meeting will be open to the public and will focus on items listed in the Meeting Agenda section.

II. Meeting Agenda

• Welcoming Remarks/Introductions

• Committee and Subcommittee briefings on activities, key issues, and focus areas for FY 2020—Cybersecurity Information Sharing; Emergency Management and Resiliency; Insider Threat; and Security Risk and Intelligence

• Public Comments

• Closing Comments and Adjournment

III. Public Participation

The meeting will be open to the public and attendance may be limited due to technological and telephonic meeting constraints. Members of the public, all non-STSAC members, and non-TSA staff who wish to attend must register via email by submitting their name, contact number, and affiliation to STSAC@tsa.dhs.gov by October 26, 2020. Attendees will be admitted on a first-to-register basis. Attendance information will be provided upon registration.

In addition, members of the public must make advance arrangements by October 26, 2020 to present oral or written statements. The statements must specifically address issues pertaining to the items listed in the Meeting Agenda section; requests must be submitted via email to: STSAC@tsa.dhs.gov. The public comment period will begin at approximately 3:25 p.m. and will end at 3:40 p.m. Speakers are requested to limit their comments to three minutes.

The STSAC and TSA are committed to providing equal access to this virtual meeting for all participants. If you need alternative formats or services because of a disability, please contact the person listed in the FOR FURTHER INFORMATION CONTACT section before October 26, 2020.

Dated: October 8, 2020.
Eddie D. Mayenschein,
Assistant Administrator, Policy, Plans, and Engagement (PPE).

[FR Doc. 2020-22749 Filed 10-14-20; 8:45 am]

BILLING CODE 9110-05-P